DEPARTMENT OF THE INTERIOR

Bureau of Indian Affairs

25 CFR Part 162

Leases and Permits

CFR Correction

In Title 25 of the Code of Federal Regulations, revised as of April 1, 2005, on page 435, part 162 is corrected by reinstating §§ 162.622 and 162.623 to read as follows:

§ 162.622 Can BIA take emergency action if the leased premises are threatened with immediate and significant harm?

If a tenant or any other party causes or threatens to cause immediate and significant harm to the leased premises during the term of a lease, we will take appropriate emergency action. Emergency action may include judicial action seeking immediate cessation of the activity resulting in or threatening the harm. Reasonable efforts will be made to notify the Indian landowners, either before or after the emergency action is taken.

§ 162.623 What will BIA do if a tenant holds over after the expiration or cancellation of a lease?

If a tenant remains in possession after the expiration or cancellation of a lease, we will treat the unauthorized use as a trespass. Unless we have reason to believe that the tenant is engaged in negotiations with the Indian landowners to obtain a new lease, we will take action to recover possession on behalf of the Indian landowners, and pursue any additional remedies available under applicable law.

[FR Doc. 06-55509 Filed 3-9-06; 8:45 am]

BILLING CODE 1505-01-D